SMALL BUSINESS ADMINISTRATION

Region VI Regulatory Fairness Board; Public Federal Regulatory Enforcement Fairness Roundtable

The Small Business Administration Region VI Regulatory Fairness Board and the SBA Office of the National Ombudsman, will hold a Public Roundtable on Wednesday, February 20, 2002 at 1 p.m. at the Arkansas State Chamber of Commerce /AIA, 410 South Cross Street, Little Rock, Arkansas 72201, to provide small business owners and representatives of trade associations with an opportunity to share information concerning the federal regulatory enforcement and compliance environment.

Anyone wishing to attend or to make a presentation must contact Deb Mathis in writing or by fax, in order to be put on the agenda. Deb Mathis, Arkansas State Chamber of Commerce /AIA, 410 South Cross Street, Little Rock, Arkansas 72201, Phone (501) 374-9225, fax (501) 372-2722, e-mail Dmathis@ascc-aia.org.

For more information see our website at http://www.sba.gov/ombudsman/events/dsp_roundtable.html.

Dated: February 12, 2002.
Michael L. Barrera,
National Ombudsman.

[FR Doc. 02-4010 Filed 2-19-02; 8:45 am]

BILLING CODE 8025-01-P